DEPARTMENT OF DEFENSE

Defense Logistics Agency

Privacy Act of 1974; Computer Matching Program

AGENCY: Defense Manpower Data Center, Defense Logistics Agency, DoD.

ACTION: Notice of a computer matching program.

SUMMARY: Subsection (e)(12) of the Privacy Act of 1974, as amended (5 U.S.C. 552a), requires agencies to publish advanced notice of any proposed or revised computer matching program by the matching agency for public comment. The Department of Defense (DoD) as the matching agency under the Privacy Act, is hereby giving notice to the record subjects of a computer matching program between Social Security Administration (SSA) and the DoD that their records are being matched by computer.

The Social Security Act requires SSA to verify, with independent or collateral sources, information provided to SSA by recipients of SSI payments and beneficiaries of SVB benefits. The SSI and SVB recipient/beneficiary provides information about eligibility/entitlement factors and other relevant information. SSA obtains additional information as necessary before making any determinations of eligibility/payment or entitlement/benefit amounts or adjustments thereto. With respect to military retirement payments to SSI recipients and SVB beneficiaries who are retired members of the Uniformed Services or their survivors, SSA proposes to accomplish this task by computer matching with the DoD.

DATES: This proposed action will become effective April 23, 2004, and matching may commence unless changes to the matching program are required due to public comments or by Congressional or by Office of Management and Budget objections. Any public comment must be received before the effective date.

ADDRESSES: Any interested party may submit written comments to the Director, Defense Privacy Office, 1941 Jefferson Davis Highway, Suite 920, Arlington, VA 22202-4502.

FOR FURTHER INFORMATION CONTACT: Mr. Vahan Moushegian, Jr. at (703) 607-2943.

SUPPLEMENTARY INFORMATION: Pursuant to subsection (o) of the Privacy Act of 1974, as amended (5 U.S.C. 552a), the Defense manpower Data Center (DMDC) and SSA have concluded an agreement to conduct a computer matching program.

The parties to this agreement have determined that a computer matching program is the efficient, expeditious, and effective means of obtaining and processing the information needed by the SSA under the Social Security Act to verify the eligibility/entitlement of, and to verify payment benefit amounts for, certain SSI and SVB recipients/beneficiaries. Computer matching also will produce the required data to calculate and make any necessary adjustments of SSI payments and SVB benefits. The principal alternative to using a computer matching program would be to conduct a manual comparison of DoD payment records with a list of SSI and SVB recipients/beneficiaries. Conducting such a manual match would clearly impose a considerable administrative burden, constitute a greater intrusion on the individual's privacy, and would result in additional delay in the eventual SSI payment and SVB benefit or recovery of unauthorized or erroneous payments/benefits. Using the computer matching program, the information exchange between the parties can be accomplished within 30 days.

A copy of the computer matching agreement between SSA and DoD is available upon request. Requests should be submitted to the address caption above or to the Information Exchange and Matching, Office of Earnings and Information Exchange, Office of Income Security Programs, Office of Disability and Income Security Programs, Social Security Administration, 0075 RRCC, 6401 Security Boulevard, Baltimore, MD 21235.

Set forth below is the notice of the establishment of a computer matching program required by paragraph 6.c. of the Office of Management and Budget Guidelines on computer matching published on June 19, 1989, at 54 FR 2518.

The matching agreement, as required by 5 U.S.C. 552a(r) of the Privacy Act, and an advance copy of this notice was submitted on March 16, 2004, to the House Committee on Government Reform, the Senate Committee on Governmental Affairs, and the Administrator of the Office of Information and Regulatory Affairs, Office of Management and Budget pursuant to paragraph 4d of Appendix I to OMB Circular No. A-130, “Federal Agency Responsibilities for Maintaining Records about Individuals,” dated February 8, 1996 (February 20, 1996, 61 FR 6427).

Dated: March 18, 2004.
L.M. Bynum,
Alternate OSD Federal Register Liaison Office, Department of Defense.

Computer Matching Program Between the Social Security Administration and the Department of Defense for Verification of Social Security Supplemental Security Income Payments and Special Veterans Benefits

A. Participating Agencies: Participants in this computer matching program are the Social Security Administration (SSA) and the Defense Manpower Data Center (DMDC) of the Department of Defense (DoD). The SSA is the source agency, i.e., the activity disclosing the records for the purpose of the match. The DMDC is the specific recipient activity or matching agency, i.e., the agency that actually performs the computer matching.

B. Purpose of the Match: The Social Security Act requires SSA to verify, with independent or collateral sources, information provided to SSA by recipients of SSI payments and beneficiaries of SVB benefits. The SSI and SVB recipient/beneficiaries provides information about eligibility/entitlement factors and other relevant information. SSA obtains additional information as necessary before making any determinations of eligibility/payment or entitlement/benefit amounts or adjustments thereto. With respect to military retirement payments to SSI recipients and SVB beneficiaries who are retired members of the Uniformed Services or their survivors, SSA proposes to accomplish this task by computer matching with the DOD.

C. Authority for Conducting the Match: The legal authority for the matching program is contained in sections 1631(e)(1)(B),(f) and 806(b) of the Social Security Act (42 U.S.C. §§ 1383(e)(1)(B), (f) and 1006(b)).

D. Records to be Matched: The systems of records maintained by the respective agencies under the Privacy Act of 1974, as amended, from which records will be disclosed for the purpose of this computer match are as follows:

1. SSA will use records from a system of records identified as 60-0103, entitled “Supplemental Security Income Record and Special Veterans Benefits, SSA/OEEAS,” last published in the Federal Register at 66 FR 11079, February 21, 2001.

2. DMDC will use records from a system of records identified as S322.10 DMDC, entitled “Defense Manpower Data Center Data Base,” last published in the Federal Register at 67 FR 78781, December 26, 2002.

E. Description of Computer Matching Program: SSA, as the source agency, will provide DMDC with an electronic file which contains the data elements. Upon receipt of the electronic file, DMDC, as the recipient agency, will perform a computer match using all nine digits of the SSN of the SSI/SVB file against a DMDC database which contains the data elements. The DMDC database consists of extracts of personnel and pay records of retired members of the uniformed services or their survivors. The “hits” or matches will be furnished to SSA. SSA is responsible for verifying and determining that the data on the DMDC electronic reply file are consistent with the SSA source file and resolving any discrepancies or inconsistencies on an individual basis. SSA will also be responsible for making final determinations as to eligibility for/entitlement to, or amount of payments/benefits, their continuation or needed adjustments, or any recovery of overpayments as a result of the match.

1. The electronic file provided by SSA will contain approximately 6.5 million records extracted from the SSR/SVB.

2. The electronic DMDC database contains records on approximately 2.3 million retired uniformed service members or their survivors.

F. Inclusive Dates of the Matching Program: This computer matching program is subject to public comment and review by Congress and the Office of Management and Budget. If the mandatory 30 day period for comment has expired and no comments are received and if no objections are raised by either Congress or the Office of Management and Budget within 40 days of being notified of the proposed match, the computer matching program becomes effective and the respective agencies may begin the exchange at a mutually agreeable time on a quarterly basis, shifting to a monthly basis, provided DoD consents, when and if the computer system work can be completed to effectuate the increased frequency. By agreement between SSA and DMDC, the matching program will be in effect for 18 months with an option to renew for 12 additional months unless one of the parties to the agreement advises the other by written request to terminate or modify the agreement.

G. Address for Receipt of Public Comments or Inquiries: Director, Defense Privacy Office, 1941 Jefferson Davis Highway, Suite 920, Arlington, VA 22202-4502. Telephone (703) 607-2943.

[FR Doc. 04-6489 Filed 3-23-04; 8:45 am]

BILLING CODE 5001-06-M